DEPARTMENT OF ENERGY

Federal Energy Regulatory Commission

[Project No. 8865-008]

Notice of Withdrawal of Existing Licensee's Notice of Intent To File a Subsequent License Application, and Soliciting Pre-Application Documents and Notices of Intent To File a License Application; N. Stanley Standal, Jr.

The current license for the Stevenson No. 1 Hydroelectric Project No. 8865 (Stevenson No. 1 Project) was issued with an effective date of July 1, 1984, for a term of 40 years, ending June 30, 2024.¹ The 70 kilowatt (kW) project is located on an unnamed tributary to the Snake River. On June 28, 2019, N. Stanley Standal, Jr. (Mr. Standal) filed an incomplete Notice of Intent (NOI) to file an application for a subsequent license for the Stevenson No. 1 Project, pursuant to section 16.6 of the Commission's regulations.² Mr. Standal failed to file an accompanying pre-application document (PAD), pursuant to section 16.7 of the Commission's regulations.³

¹ Lynn E. Stevenson, 34 FERC 62,531 (1986).

² 18 CFR 16.6(c) (2019). At least five years before the expiration of a license for a major water power project, the licensee must file with the Commission an NOI that contains an unequivocal statement of the licensee's intention to file or not to file an application for a new license. See also 18 CFR 5.5 (2019).

³ 18 CFR 16.7(d)(1) (2019). A licensee must, at the time it files an NOI pursuant to sections 5.5 and 16.6, provide a copy of the PAD required by section 5.6 of the Commission's regulations to the entities specified in that paragraph. See 18 CFR 5.6 (2019).

On July 17, 2019, Commission staff waived the provision of section 5.6(a)(1) that requires the filing of a PAD at the same time that the NOI is filed and extended the deadline for filing a complete NOI and the PAD by 90 days. On October 12, 2019, Joy Heller contacted Commission staff on behalf of Mr. Standal and stated that more information would be filed before October 31, 2019. On October 30, 2019, Mr. Standal filed a revised NOI but failed to file a PAD. On November 19, 2019, Commission staff informed Mr. Standal that if a PAD was not filed within 30 days, Commission staff would consider the lack of response as an indication that he is no longer interested in seeking a subsequent license to continue operating the project and a withdrawal of his NOI to seek a subsequent license. Despite repeated efforts to contact Mr. Standal, he has not returned staff calls or filed the requisite PAD. Commission staff therefore consider Mr. Standal's NOI as withdrawn.

Pursuant to section 16.23(b) of the Commission's regulations, when an existing licensee fails to file a complete NOI and PAD within five years of expiration of the current license, the Commission must solicit applications from potential applicants other than the existing licensee.⁴ Any party interested in filing a license application or exemption (i.e., a potential applicant) for the project must file an NOI and PAD within 90 days from the date of this notice.⁵ While the integrated licensing process is the default process for preparing an application for a new license, a potential applicant may request to use alternative licensing procedures when it files its NOI.⁶

⁴ 18 CFR 16.23(b) (2019).

⁵ Pursuant to section 16.24(b)(1) of the Commission's regulations, the existing licensee is prohibited from filing an application either individually or in combination with other entities. 18 CFR 16.24(b)(1) (2019).

⁶ 18 CFR 5.3(b) (2019).

Applications for a subsequent license or exemption from potential applicants for the Stevenson No. 1 Project must be filed within 24 months prior to the expiration of the existing license.⁷

⁷ 18 CFR 16.20(c) (2019).

Questions concerning the process for filing an NOI should be directed to Julia Kolberg at 202-502-8261 or Julia.Kolberg@ferc.gov.

Dated: January 15, 2020.
Nathaniel J. Davis, Sr.,
Deputy Secretary.

[FR Doc. 2020-00959 Filed 1-21-20; 8:45 am]

BILLING CODE 6717-01-P